DEPARTMENT OF COMMERCE

Economics and Statistics Administration

Establishment of the Measuring Innovation in the 21st Century Economy Advisory Committee and Recruitment of Members

AGENCY: Economics and Statistics Administration, Commerce.

ACTION: Notice of the Establishment of the Measuring Innovation in the 21st Century Economy Advisory Committee and Recruitment of Members from the Business and Academic Communities.

SUMMARY: The Secretary of Commerce is announcing the establishment of and recruitment for members of a Federal Advisory Committee. In accordance with the provisions of the Federal Advisory Committee Act, 5 U.S.C. App. 2, and the General Services Administration rule on the Federal Advisory Committee Management, 41 CFR part 101-6, the Secretary of Commerce has determined that the establishment of the Measuring Innovation in the 21st Century Economy Advisory Committee (the “Committee”), is in the public interest in connection with the performance of duties impose by the Department by law.

The Committee will advise the Secretary on new or improved measures of innovation in the economy in order to explain how innovation occurs in different sectors of the economy, how it is diffused across the economy, and how it impacts economic growth and productivity.

The Committee will consist of not more than fifteen members appointed by the Secretary of Commerce and composed of individuals from business and academia. Those from business will be knowledgeable about their industry sector and those from academia will be experts in their academic field. This notice provides membership criteria and application procedures.

The Committee will function solely as an advisory body, in compliance with the provisions of the Federal Advisory Committee Act. The Charter will be filed under the Federal Advisory Committee Act.

DATES: Applications for Committee membership will be received until the close of business September 29, 2006.

ADDRESSES: Interested individuals are strongly encouraged to send their applications for membership on the Committee by e-mail or facsimile to the address or number below. E-mail: Anderson@esa.doc.gov, facsimile: 202-482-0432. For those individuals without Internet or facsimile access, applications may be mailed to Economics and Statistics Administration, attn: Measuring Innovation Committee, Room 4855, U.S. Department of Commerce, 1401 Constitution Avenue, NW., Washington, DC 20230.

FOR FURTHER INFORMATION CONTACT: Elizabeth “E.R.” Anderson, Acting Deputy Under Secretary for Economic Affairs, ESA, U.S. Department of Commerce, 1401 Constitution Avenue, NW., Washington, DC 20230: telephone: 202-482-3727 or Jacque Mason at 202-482-5641, or at http://www.esa.doc.gov.

SUPPLEMENTARY INFORMATION:

Background

The U.S. economy is the fastest growing of the major industrialized countries. this growth is occurring as we shift to more knowledge-based and service-based industries. The high level of productivity that sustains this growth derives not only from innovations in the types of products and services we produce, but also from innovations in how goods and services are produced and brought to market. In a competitive global economy, policy makers need to understand the determinants of growth. Our data and analytic capabilities, therefore, need to be updated to keep pace with changes in the economy.

To help address these issues, the Secretary of Commerce is establishing the Measuring Innovation in the 21st Century Economy Advisory Committee to be composed of leaders from business and academia who will be charged with recommending new and improved statistics to help policy makers understand the innovation process.

Better metrics will help improve the understanding of how innovation occurs in different sectors of the economy, how it is diffused across the economy, and how it impacts economic growth and productivity. Definitions and methodological questions relevant for both government and private sector officials will be explored, therefore it is critical to have input from leaders in both the business and academic communities.

Membership

The Department of Commerce is seeking applicants from business and academia who are knowledgeable about the innovative process in their industry sector or experts in their academic field. The committee membership will reflect the diversity of the American economy, representing leaders of the business community from different industry sectors, and businesses of varying size. Committee members from the business community will serve in a representative capacity while those from the academic community will serve as Special Government Employees. Committee members will serve under the direction of the Secretary of Commerce. The committee will be composed of not more than 15 members appointed by the Secretary. No security clearances are required since Committee members will not have access to classified information.

Eligibility

Candidates will be self-identified; nominations from others are not required. Candidates from the business community must be at the CEO level or equivalent and be knowledgeable about the innovation process and measurement in their industry sector. Academic candidates must be experts in their field, preferably with an academic focus on innovation, particularly innovation metrics.

Application Procedure

Interested individuals should submit a letter stating their desire to serve on the Advisory Committee and attach a biographical statement.

Applications should be addressed to Elizabeth “E.R.” Anderson, Acting Deputy Under Secretary for Economic Affairs and should be sent by close of business September 29, 2006, to one of the addressed below:

E-mail: Anderson@esa.doc.gov.

Facsimile: 202-482-0432.

Mailing address: Economics and Statistics Administration, Measuring Innovation Committee, Room 4855, U.S. Department of Commerce, 1401 Constitution Avenue, NW., Washington, DC 20230.

Authority: Federal Advisory Committee Act: 5 U.S.C. App. 2 and General Services Administration Rule: 41 CFR part 101-6.

Elizabeth “E.R.” Anderson,
Acting Deputy Under Secretary for Economic Affairs.

[FR Doc. 06-6811 Filed 8-9-06; 8:45 am]

BILLING CODE 3510-06-M